DEPARTMENT OF ENERGY

Federal Energy Regulatory Commission

[Docket No. CP10-478-000]

Colorado Interstate Gas Company; Notice of Request Under Blanket Authorization

August 12, 2010.

Take notice that on August 3, 2010, Colorado Interstate Gas Company (CIG), Post Office Box 1087, Colorado Springs, Colorado 80944, filed in Docket No. CP10-478-000, a prior notice request pursuant to sections 157.205 and 157.216 of the Federal Energy Regulatory Commission's (Commission) Regulations under the Natural Gas Act for authorization to abandon, by removal, the previously abandoned above-ground facilities at the Fourway Compressor Station, located in Moore County, Texas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, CIG proposes to abandon, by removal, all of the aboveground facilities including the following facilities: Five abandoned-in-place 1,320 Horsepower compressor units, office, shop, warehouse, auxiliary building, compressor building, foundations and basements, as well as other facilities. CIG proposes to remove all above-ground facilities with the exception of two functioning pigging facilities, which service the existing and operating Line No. 3A (Fourway to Kit Carson Line) and Line No. 193A (Plum Creek Lateral). CIG declares that the proposed removal activities will take place entirely within the station yard. CIG estimates the cost to complete the removal of the Fourway Compressor Station to be approximately $3.8 million. CIG avers that subsequent to the abandonment in place, the Fourway facilities have been vandalized. To deter future vandalism, CIG believes that it is prudent to remove the aboveground facilities at the station.

Any questions regarding the application should be directed to Susan C. Stires, Director, Regulatory Affairs Department, Post Office Box 1087, Colorado Interstate Gas Company, Colorado Springs, Colorado 80944, at (719) 667-7514.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-20454 Filed 8-17-10; 8:45 am]

BILLING CODE 6717-01-P